DEPARTMENT OF THE INTERIOR

Bureau of Land Management

[LLNV952000 L14200000.BJ0000 241A; 12-08807; MO# 4500027443; TAS:14X1109]

Filing of Plats of Survey; Nevada

AGENCY: Bureau of Land Management, Interior.

ACTION: Notice.

SUMMARY: The purpose of this notice is to inform the public and interested State and local government officials of the filing of Plats of Survey in Nevada.

DATES: Effective Dates: Filing is effective at 10 a.m. on the dates indicated below.

FOR FURTHER INFORMATION CONTACT: David D. Morlan, Chief, Branch of Geographic Sciences, Bureau of Land Management, Nevada State Office, 1340 Financial Blvd., Reno, NV 89520, phone: (775) 861-6541. Persons who use a telecommunications device for the deaf (TDD) may call the Federal Information Relay Service (FIRS) at 1-(800) 877-8339 to contact the above individual during normal business hours. The FIRS is available 24 hours a day, 7 days a week, to leave a message or question with the above individual. You will receive a reply during normal business hours.

SUPPLEMENTARY INFORMATION:

1. The Plat of Survey of the following described lands was officially filed at the Nevada State Office, Reno, Nevada on July 8, 2011: The plat, representing the dependent resurvey of a portion of the subdivisional lines and the southerly right-of-way line of Interstate Highway No. 15 through section 30, and a metes-and-bounds survey in sections 30 and 31, Township 13 South, Range 69 East, Mount Diablo Meridian, Nevada, under Group No. 890, was accepted on July 6, 2011.

The plat, representing the dependent resurvey of portions of the north and west boundaries and a portion of the subdivisional lines, and a metes-and-bounds survey in sections 5, 6 and 7, Township 14 South, Range 69 East, Mount Diablo Meridian, under Group No. 890, was accepted on July 6, 2011. These surveys were executed to meet certain administrative needs of the City of Mesquite and the Bureau of Land Management.

2. The Plat of Survey of the following described lands was officially filed at the Nevada State Office, Reno, Nevada on September 15, 2011: The plat, in two sheets, represents the dependent resurvey of a portion of the west boundary, the north boundary, and a portion of the subdivisional lines, and the subdivision of certain sections, Township 15 South, Range 67 East, Mount Diablo Meridian, Nevada, under Group No. 841, was accepted on September 13, 2011. This survey was executed to meet certain administrative needs of the Bureau of Land Management. The above-listed surveys are now the basic record for describing the lands for all authorized purposes. These surveys have been placed in the open files in the Bureau of Land Management, Nevada State Office and are available to the public as a matter of information. Copies of the surveys and related field notes may be furnished to the public upon payment of the appropriate fees.

Dated: October 24, 2011.
David D. Morlan,
Chief Cadastral Surveyor, Nevada.

[FR Doc. 2011-28695 Filed 11-4-11; 8:45 am]

BILLING CODE 4310-HC-P